DEPARTMENT OF JUSTICE

Drug Enforcement Administration

21 CFR Part 1308

[Docket No. DEA-419F]

Schedules of Controlled Substances: Placement of Eluxadoline Into Schedule IV

Correction

In notice document 2015-28718, beginning on page 69861 in the issue of Thursday, November 12, 2015, make the following correction:

On page 69861, in the first column, in the eighteenth and nineteenth lines from the bottom, “December 17, 2015” should read “December 14, 2015”.

[FR Doc. C1-2015-28718 Filed 11-13-15; 8:45 am]

BILLING CODE 1505-01-D